DEPARTMENT OF JUSTICE

[Docket No. ODAG 151]

Notice of Federal Advisory Committee Meeting

AGENCY: Department of Justice.

ACTION: Notice of Federal Advisory Committee Meeting.

SUMMARY: This notice announces a forthcoming public meeting of the National Commission on Forensic Science.

DATES: The meeting will be held on October 28, 2014, from 12:30 p.m. to 5:30 p.m. and October 29, 2014 from 9:00 a.m. to 5:30 p.m. Online registration for the meeting must be completed on or before 5:00 p.m. (EST) October 24, 2014. Electronic comments on subcommittee draft work products must be submitted on or before October 27, 2014. The electronic Federal Docket Management System (FDMS) will accept comments until Midnight Eastern Time at the end of that day.

Location: Office of Justice Programs, 3rd floor ballroom, 810 7th Street NW., Washington, DC 20531.

FOR FURTHER INFORMATION CONTACT: Brette Steele, Senior Forensic Science Advisor and Senior Counsel to the Deputy Attorney General, 950 Pennsylvania Avenue NW., Washington, DC 20530, by email at Brette.L.Steele@usdoj.gov, or by phone at (202) 305-0180.

SUPPLEMENTARY INFORMATION: Agenda: On October 28, the Commission will receive a briefing from the Bureau of Justice Statistics regarding a proposal to survey law enforcement forensic science service providers. The Commission will also receive status reports, to include the introduction of any draft work products, from the Subcommittees on Accreditation and Proficiency Testing, Scientific Inquiry and Research, and Medicolegal Death Investigation. On October 29, the Commission will receive an update from the National Institute of Science and Technology (NIST) on the Organization of Scientific Area Committees and explore issues related to latent fingerprint interoperability of Automated Fingerprint Identification Systems (AFIS). The Commission will also receive status reports, to include the introduction of any draft work products, from the Subcommittees on Human Factors, Training on Science and Law, Interim Solutions, and Reporting and Testimony. The oral public comment period at the meeting will be open from 5:00-5:30 p.m. on October 29, 2014. Note: Agenda items, including designation of presentation dates are subject to change. A final agenda will be posted to the Commission's Web site in advance of the meeting.

Procedures: Draft work products to be introduced at the Commission meeting will be made available on the Commission's Web site: http://www.justice.gov/ncfs. The meeting will be webcast at: http://stream.sparkstreetdigital.com/player-ce.html?id=doj-oct28. The meeting will also be open to the public. Seating in the meeting room is limited and will be available on a first-come, first-served basis. All persons who are interested in being on-site for the meeting must register on-line at http://conferences.csrincorporated.com by using conference code: 2014-112P.

Members of the public may present oral comments on issues pending before the Commission. Those individuals interested in making oral comments should indicate their intent through the on-line registration form and time will be allocated on a first-come, first-served basis. Time allotted for an individual's comment period will be limited to no more than 3 minutes. If the number of registrants requesting to speak is greater than can be reasonably accommodated during the scheduled public comment periods, written comments will be accepted in lieu of oral comments.

Posting of Public Comments: To ensure proper handling of comments, please reference “Docket No. ODAG 151” on all electronic and written correspondence. The Department encourages all comments on subcommittee work products be submitted electronically through http://www.regulations.gov using the electronic comment form provided on that site. An electronic copy of this document is also available at the http://www.regulations.gov Web site for easy reference. Paper comments that duplicate the electronic submission are not necessary as all comments submitted to http://www.regulations.gov will be posted for public review and are part of the official docket record.

In accordance with the Federal Records Act, please note that all comments received are considered part of the public record, and shall be made available for public inspection online at http://www.regulations.gov. The comments to be posted may include personally identifiable information (such as your name, address, etc.) and confidential business information voluntarily submitted by the commenter.

You are not required to submit personal identifying information in order to comment on this meeting. Nevertheless, if you want to submit personally identifiable information (such as your name, address, etc.) as part of your comment, but do not want it to be made available for public inspection and posted online, you must include the phrase “PERSONALLY IDENTIFIABLE INFORMATION” in the first paragraph of your comment. You must also place all the personally identifiable information you do not want made available for public inspection or posted online in the first paragraph of your comment and identify what information you want redacted.

If you want to submit confidential business information as part of your comment, but do not want it to be made available for public inspection and posted online, you must include the phrase “CONFIDENTIAL BUSINESS INFORMATION” in the first paragraph of your comment. You must also prominently identify confidential business information to be redacted within the comment. If a comment has so much confidential business information that it cannot be effectively redacted, all or part of that comment may not be made available for public inspection or posted online.

Personally identifiable information and confidential business information identified and located as set forth above will be redacted and the comment, in redacted form, will be made available for public inspection and posted on http://www.regulations.gov.

The Department of Justice welcomes the attendance of the public at its advisory committee meetings and will make every effort to accommodate persons with physical disabilities or special needs. If you require special accommodations, please indicate your requirements on the online registration form.

Dated: October 7, 2014.
James M. Cole,
Deputy Attorney General.

[FR Doc. 2014-24232 Filed 10-9-14; 8:45 am]

BILLING CODE 4410-18-P